DEPARTMENT OF COMMERCE

International Trade Administration

United States-Egypt Presidents' Council: Membership

AGENCY: International Trade Administration, Commerce.

ACTION: Amendment to Notice of Membership Opportunity: Extension to deadline for applications.

SUMMARY: The International Trade Administration of the U.S. Department of Commerce established and monitors the activities of the U.S.-Egypt Presidents' Council. The purpose of the Council is to provide a forum through which American and Egyptian private sector representatives can provide advice and counsel to both governments. The Federal Register published a notice of membership opportunities for American business representatives on the U.S. side of the Council on November 19, 2001. The deadline was December 28, 2001, and extended to January 25, 2002. This notice hereby extends the deadline by which applications must be received.

DATES: In order to receive full consideration, requests must be received no later than: Friday, April 19, 2002.

ADDRESSES: Please send your requests for consideration to Maram R. Talaat, Egypt Desk Officer, Office of the Middle East, U.S. Department of Commerce by fax at 202-482-0878 or courier to Room H-2029B, U.S. Department of Commerce, 14th and Constitution Avenue, NW., Washington, DC 20230.

FOR FURTHER INFORMATION, CONTACT: Maram R. Talaat, Office of the Middle East, Room H-2029B, U.S. Department of Commerce, Washington, DC 20230, phone: 202-482-3752.

SUPPLEMENTARY INFORMATION: This amends the notice of membership opportunities on the U.S.-Egypt Presidents' Council published in the Federal Register on November 19, 2001 (66 FR 57937-57938 ).

Dated: March 20, 2002.
Cherie A. Loustaunau,
Director, Office of the Middle East.

[FR Doc. 02-7117 Filed 3-22-02; 8:45 am]

BILLING CODE 3510-DA-P